DEPARTMENT OF HEALTH AND HUMAN SERVICES

Food and Drug Administration

[Docket No. FDA-2014-N-0662]

Aurobindo Pharma Ltd. et al.; Withdrawal of Approval of Eighty-Six Abbreviated New Drug Applications

AGENCY: Food and Drug Administration, HHS.

ACTION: Notice.

SUMMARY: The Food and Drug Administration (FDA) is withdrawing approval of 86 abbreviated new drug applications (ANDAs) from multiple applicants. The holders of the applications notified the Agency in writing that the drug products were no longer marketed and requested that the approval of the applications be withdrawn.

DATES: Effective Date: July 21, 2014.

FOR FURTHER INFORMATION CONTACT: Florine P. Purdie, Center for Drug Evaluation and Research, Food and Drug Administration, 10903 New Hampshire Ave., Bldg. 51, Rm. 6366, Silver Spring, MD 20993-0002, 301-796-3601.

SUPPLEMENTARY INFORMATION: The holders of the applications listed in table 1 in this document have informed FDA that these drug products are no longer marketed and have requested that FDA withdraw approval of the applications under the process in § 314.150(c) (21 CFR 314.150(c)). The applicants have also, by their requests, waived their opportunity for a hearing. Withdrawal of approval of an application or abbreviated application under § 314.150(c) is without prejudice to refiling.

Table 1
Application No. | Drug | Applicant
ANDA 065395 | Cefazolin for Injection USP, 500 milligrams (mg) and 1 gram (g) | Aurobindo Pharma Ltd., c/o AuroMedics Pharma LLC, 6 Wheeling Rd. Dayton, NJ 08810.
ANDA 065481 | Ceftazidime for Injection USP, 500 mg, 1 g, and 2 g | Do.
ANDA 065482 | Ceftazidime for Injection USP, 6 g | Do.
ANDA 065504 | Ceftriaxone for Injection USP, 10 g | Do.
ANDA 065505 | Ceftriaxime for Injection, 250 mg, 500 mg, 1 g, and 2 g | Do.
ANDA 065516 | Cefotaxime for Injection USP, 10 g | Do.
ANDA 065517 | Cefotaxime for Injection USP | Do.
ANDA 077467 | Nateglinide Tablets, 60 mg and 120 mg | Teva Pharmaceuticals USA, 1090 Horsham Rd., P.O. Box 1090, North Wales, PA 19454.
ANDA 077472 | Cetirizine Hydrochloride (HCl) Syrup, 5 mg/5 milliliters (mL) | Ranbaxy Laboratories Limited, c/o Ranbaxy Inc., 600 College Rd. East, Princeton, NJ 08540.
ANDA 077540 | Zolpidem Tartrate Tablets, 5 mg and 10 mg | Synthon Pharmaceuticals, Inc., 9000 Development Dr., P.O. Box 110487, Research Triangle Park, NC 27709.
ANDA 077717 | Ondansetron Orally Disintegrating Tablets USP, 4 mg and 8 mg | Nesher Pharmaceuticals (USA) LLC, 13910 St. Charles Rock Rd., Bridgeton, MO 63044.
ANDA 077730 | Pravastatin Sodium Tablets, 10 mg, 20 mg, 30 mg, 40 mg, and 80 mg | Pliva HRVATSKA, c/o Barr Laboratories, Inc., 400 Chestnut Ridge Rd., Woodcliff Lake, NJ 07677.
ANDA 077826 | Fenoldopam Mesylate Injection USP, 10 mg (base)/mL | Teva Parenteral Medicines, Inc., 19 Hughes, Irvine, CA 92618.
ANDA 077888 | Ciprofloxacin Injection USP, 2 mg/mL | Baxter Healthcare Corp., 1620 Waukegan Rd., McGaw Park, IL 60085.
ANDA 077905 | Topiramate Tablets, 25 mg, 50 mg, 100 mg, and 200 mg | Pliva HRVATSKA, c/o Barr Laboratories, Inc.
ANDA 078016 | Zolpidem Tartrate Tablets, 5 mg and 10 mg | Mylan Pharmaceuticals, Inc., 781 Chestnut Ridge Rd., P.O. Box 4310, Morgantown, WV 26505-4310.
ANDA 078053 | Sertraline HCl Oral Concentrate, 20 mg/mL | Ranbaxy Laboratories Limited, c/o Ranbaxy Inc.
ANDA 078114 | Ciprofloxacin Injection USP in 5% Dextrose, 2 mg/mL | Bedford Laboratories, 300 Northfield Rd., Bedford, OH 44146.
ANDA 078132 | Ibuprofen Tablets USP, 400 mg, 600 mg, and 800 mg | Quality Regulatory Consultants, U.S. Agent for Northstar Healthcare Holdings, 501 Ivy Lake Dr., Forest, VA 24551.
ANDA 078187 | Risperidone Tablets USP, 0.25 mg, 0.5 mg, 1 mg, 2 mg, 3 mg, and 4 mg | Synthon Pharmaceuticals, Inc.
ANDA 078322 | Anastrozole Tablets, 1 mg | Do.
ANDA 078448 | Ranitidine HCl Solution, 15 mg/mL | Ranbaxy Inc., U.S. Agaent for Ranbaxy Laboratories Limited.
ANDA 078606 | Mitoxantrone Injection USP | Washington Food and Drug Consultants, U.S. Agent for Fresenius Kabi Oncology Plc., 3631 Martins Dairy Circle, Olney, MD 20832.
ANDA 080043 | Nitrofurantoin Tablets, 50 mg and 100 mg | Sandoz Inc., 2555 W. Midway Blvd., Broomfield, CO 80038-0446.
ANDA 080203 | Potassium Chloride Injection USP, 2 milliequivalents/mL | Baxter Healthcare Corp., 25212 W. IL Route 120, Round Lake, IL 70073.
ANDA 080642 | Hydrocortisone Tablets, 20 mg | Sandoz Inc.
ANDA 081142 | Aminophylline Injection USP, 25 mg/mL | Teva Parenteral Medicines, Inc.
ANDA 081169 | Glycopyrrolate Injection USP, 0.2 mg/mL | Do.
ANDA 081266 | Methyprednisolone Sodium Succinate for Injection USP, 125 mg | Do.
ANDA 081267 | Methylprednisolone Sodium Succinate for Injection USP, 500 mg | Do.
ANDA 081268 | Methyprednisolone Sodium Succinate for Injection USP, 1 g | Do.
ANDA 081278 | Leucovorin Calcium for Injection, 50 mg/vial | Do.
ANDA 083254 | Halothane USP | Hospira, Inc., 275 North Field Dr., Lake Forest, IL 60045.
ANDA 083263 | Alcohol in Dextrose Injection USP, 5%/5% | Do.
ANDA 083306 | Niacin Tablets, 50 mg | Sandoz Inc.
ANDA 083486 | Isoproterenol HCl Injection USP, 0.2 mg/mL | Baxter Healthcare Corp.
ANDA 084051 | Dextroamphetamine Sulfate Tablets USP, 5 mg and 10 mg | Shire Development Inc., 725 Chesterbrook Blvd., Wayne, PA 19087.
ANDA 084233 | Promethazine HCl Tablets, 12.5 mg | Sandoz Inc.
ANDA 084472 | Folic Acid Capsules, 1 mg | Do.
ANDA 084827 | Hydrochlorothiazide and Reserpine Tablets, 25 mg/0.125 mg | Do.
ANDA 085034 | Phendimetrazine Tartrate Tablets, 35 mg | Do.
ANDA 085133 | Imipramine HCl Tablets, 50 mg | Do.
ANDA 085200 | Imipramine HCl Tablets, 10 mg | Do.
ANDA 085213 | Hydrochlorothiazide and Reserpine Tablets, 50 mg/0.125 mg | Do.
ANDA 085302 | Estrogens, Esterified Tablets, 1.25 mg | Do.
ANDA 085362 | Novocaine (procaine HCl Injection USP) | Hospira, Inc.
ANDA 085370 | Dextroamphetamine Sulfate Tablets, 5 mg | Sandoz Inc.
ANDA 085371 | Dextroamphetamine Sulfate Tablets, 10 mg | Do.
ANDA 085402 | Phendimetrazine Tartrate Tablets, 35 mg | Do.
ANDA 085601 | Triamcinolone Tablets, 4 mg | Do.
ANDA 085633 | Phendimetrazine Tartrate Capsules, 35 mg | Do.
ANDA 085671 | Phentermine HCl Tablets, 8 mg | Do.
ANDA 085689 | Phentermine HCl Tablets USP, 8 mg | Do.
ANDA 085694 | Phendimetrazine Tartrate Capsules, 35 mg | Do.
ANDA 085702 | Phendimetrazine Tartrate Capsules, 35 mg | Do.
ANDA 085830 | Phendimetrazine Tartrate Tablets, 35 mg | Do.
ANDA 085852 | A-Methapred (methylprednisolone sodium succinate for injection USP), 1,000 mg/vial | Hospira, Inc.
ANDA 085853 | A-Methapred (methylprednisolone sodium succinate for injection USP), 40 mg/vial | Do.
ANDA 085854 | A-Methapred (methylprednisolone sodium succinate for injection USP), 500 mg/vial | Do.
ANDA 085929 | A-Hydrocort (hydrocortisone sodium succinate for injection USP), 100 mg/vial | Hospira, Inc.
ANDA 085930 | A-Hydrocort (hydrocortisone sodium succinate for injection USP), 250 mg/vial | Do.
ANDA 085931 | A-Hydrocort (hydrocortisone sodium succinate for injection USP), 500 mg/vial | Do.
ANDA 085932 | A-Hydrocort (hydrocortisone sodium for injection USP), 1,000 mg/val | Do.
ANDA 086370 | Phendimetrazine Tartrate Tablets, 35 mg | Sandoz Inc.
ANDA 086589 | Barbidonna Tablets (phenobarbital, hyoscyamine sulfate, scopolamine hydrobromide, and atropine sulfate) | Meda Pharmaceuticals, Meda Pharmaceuticals, Inc., 265 Davidson Ave., Suite 300, Somerset, NJ 08873-4120.
ANDA 086590 | Barbidonna Elixir (phenobarbital, hyoscyamine sulfate, atropine sulfate, scopolamine hydrobromide) | Do.
ANDA 086664 | Butibel Elixir (sodium butabarbital and belladonna extract), 15 mg/5 mL and 15 mg/5 mL | Do.
ANDA 087208 | Phentermine HCl Capsules, 30 mg | Sandoz Inc.
ANDA 087223 | Phentermine HCl Capsules, 30 mg | Do.
ANDA 087759 | Prochlorperazine Edisylate Injection USP | Baxter Healthcare Corp.
ANDA 087572 | Barbidonna No. 2 Tablets (phenobarbital, hyoscyamine sulfate, atropine sulfate, and scopolamine hydrobromide) 32 mg, 0.1286 mg, 0.025 mg, and 0.0074 mg | Meda Pharmaceuticals.
ANDA 088099 | Heparin Lock Flush Solution USP, 2,500 units/Ml | Hospira, Inc.
ANDA 088175 | Chlorpropamide Tablets, 100 mg | Par Pharmaceutical, Inc., One Ram Ridge Rd., Spring Valley, NY 10977.
ANDA 088176 | Chlorpropamide Tablets, 250 mg | Do.
ANDA 088184 | Hydroxyzine HCl Injection USP, 25 mg/mL | Fresenius Kabi USA, LLC, Three Corporate Dr., Lake Zurich, IL 60047.
ANDA 088185 | Hydroxyzine HCl Injection USP, 50 mg/mL | Do.
ANDA 088330 | 1.5% Lidocain HCl Injection USP | Hospira, Inc.
ANDA 089158 | Methotrexate Injection USP, 25 mg/mL | Pharmachemie B.V., c/o Teva Parenteral Medicines, Inc., 19 Hughes, Irvine, CA 92618.
ANDA 089420 | Azdone Tablets (hydrocodone bitartrate 5 mg and aspirin 500 mg) | Schwarz Pharma, Inc., c/o UCB, Inc., 1950 Lake Park Dr., Smyrna, GA 30080.
ANDA 090183 | Cetirizine HCl Syrup, 5 mg/5mL | Ranbaxy Laboratories Limited, c/o Ranbaxy Inc.
ANDA 090196 | Letrozole Tablets USP, 2.5 mg | Synthon Pharmaceuticals, Inc.
ANDA 090464 | Mycophenolate Mofetil Tablets, 500 mg | Dr. Reddy's Laboratories Limited, c/o Dr. Reddy's Laboratories, Inc., 200 Somerset Corporate Blvd., 7th Floor, Bridgewater, NJ 08807.
ANDA 090567 | Polyethylene Glycol 3350 Powder for Oral Solution | Paddock Laboratories, LLC, a Perrigo Co., 3940 Quebec Ave. North, Minneapolis, MN 55427.
ANDA 090712 | Polyethylene Glycol 3350 and Electrolytes for Oral Solution | Do.
ANDA 090769 | Clenz-Lyte (polyethylene glyol 3350 and electrolytes for oral solution) | Do.
ANDA 091315 | Mycophenolalte Mofetil Capsules USP, 250 mg | Dr. Reddy's Laboratories Limited, c/o Dr. Reddy's Laboratories, Inc.

Therefore, under section 505(e) of the Federal Food, Drug, and Cosmetic Act (the FD&C Act) (21 U.S.C. 355(e)) and under authority delegated to the Director, Center for Drug Evaluation and Research, by the Commissioner, approval of the applications listed in table 1 in this document, and all amendments and supplements thereto, is hereby withdrawn, effective July 21, 2014. Introduction or delivery for introduction into interstate commerce of products without approved new drug applications violates section 301(a) and (d) of the FD&C Act (21 U.S.C. 331(a) and (d)). Drug products that are listed in table 1 that are in inventory on the date that this notice becomes effective (see the DATES section) may continue to be dispensed until the inventories have been depleted or the drug products have reached their expiration dates or otherwise become violative, whichever occurs first.

Dated: June 13, 2014.
Leslie Kux,
Assistant Commissioner for Policy.

[FR Doc. 2014-14288 Filed 6-18-14; 8:45 am]

BILLING CODE 4164-01-P